DEPARTMENT OF THE INTERIOR

Fish and Wildlife Service, Interior.

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 U.S.C. 1531 et seq.).

Permit No. TE-036499

Applicant: Golden Gate National Recreation Area, San Francisco, California

The applicant requests a permit to take (capture and release; collect voucher specimens) the tidewater goby (Eucyclogobius newberryi) and California freshwater shrimp (Syncaris pacifica) in conjunction with presence or absence surveys and population studies on the Golden Gate National Recreation Area for the purpose of enhancing their survival. These activities were previously authorized under subpermit GGNRA-2.

Permit No. TE-018180

Applicant: Point Reyes National Seashore, Point Reyes, California

The applicant requests a permit amendment to remove and reduce to possession specimens of Lupinus tidestromii and Layia carnosa in conjunction with scientific research throughout Marin county, California, for the purpose of enhancing their survival.

Permit No. TE-037798

Applicant: Bryan James Smith, Irvine, California

The applicant requests a permit to take (survey by pursuit) the Quino checkerspot butterfly (Euphydryas editha quino) in conjunction with surveys throughout the species' range in California for the purpose of enhancing its survival.

Permit No. TE-037539

Applicant: Karineh Samkian, San Diego, California

The applicant requests a permit to take (survey by pursuit) the Quino checkerspot butterfly (Euphydryas editha quino) in conjunction with surveys throughout the species' range in California for the purpose of enhancing its survival.

Permit No. TE-037530

Applicant: Ruth Ann Erro, San Diego, California

The applicant requests a permit to take (survey by pursuit) the Quino checkerspot butterfly (Euphydryas editha quino) in conjunction with surveys throughout the species' range in California for the purpose of enhancing its survival.

Permit No. TE-037508

Applicant: Essex Environmental Incorporated, Solana Beach, California

The applicant requests a permit to take (survey by pursuit) the Quino checkerspot butterfly (Euphydryas editha quino) and take (harass by nest monitoring) the least Bell's vireo (Vireo bellii pusillus) in conjunction with surveys and population monitoring throughout each species' range in California for the purpose of enhancing their survival.

Permit No. TE-037785

Applicant: Weyerhaeuser Company, Federal Way, Washington

The applicant requests a permit to take (harass by survey, capture and handle) the Oregon chub (Oregonicthys crameri) in conjunction with electrofishing surveys throughout the species' range where Weyerhaeuser ownership occurs for the purpose of enhancing its survival.

Permit No. TE-037772

Applicant: Michelle Carol Lee, Carlsbad, California

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California for the purpose of enhancing their survival.

Permit No. TE-844030

Applicant: Eda C. Eggeman, Redding, California

The applicant requests a permit amendment to take (harass by survey, collect and sacrifice) the Conservancy fairy shrimp (Branchinecta conservatio), longhorn fairy shrimp (Branchinecta longiantenna), and the vernal pool tadpole shrimp (Lepidurus packardi) in conjunction with surveys throughout each species' range in northern California for the purpose of enhancing their survival.

Permit No. TE-817400

Applicant: East Bay Regional Park District, Oakland, California

The applicant requests a permit amendment to extend the geographic area to take (capture, mark, and release) the salt marsh harvest mouse (Reithrodontomys raviventris); and take (harass by survey, locate and monitor nests, and candle eggs) the California clapper rail (Rallus longirostris obsoletus) in conjunction with surveys, population monitoring, and scientific research in Alameda, Contra Costa, Marin, Napa, Sonoma, San Francisco, Santa Clara, Solano, San Mateo, San Joaquin, and Sacramento Counties, California.

Permit No. TE-022227

Applicant: Harry Franklin Smead, Lemon Grove, California

The applicant requests a permit amendment to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) and take (survey by pursuit) the Quino checkerspot butterfly (Euphydryas editha quino) in conjunction with surveys throughout each species' range in California for the purpose of enhancing their survival.

Permit No. TE-037524

Applicant: Cory R. Davis, Escondido, California

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) and take (survey by pursuit) the Quino checkerspot butterfly (Euphydryas editha quino) in conjunction with surveys throughout each species' range in California for the purpose of enhancing their survival.

DATES: Written comments on these permit applications must be received on or before March 14, 2001.

ADDRESSES: Written data or comments should be submitted to the Chief—Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: January 31, 2001.
Rowan W. Gould,
Acting Regional Director, Region 1, Portland, Oregon.

[FR Doc. 01-3421 Filed 2-9-01; 8:45 am]

BILLING CODE 4310-55-P